DEPARTMENT OF HOUSING AND URBAN DEVELOPMENT

[Docket No. FR-4655-N-08]

Notice of Proposed Information Collection: Comment Request; Application for Multifamily Housing Project

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: May 7, 2001.

ADDRESSES: Interested persons are invited to submit comments regarding this proposal. Comments should refer to the proposal by name and/or OMB Control Number and should be sent to: Wayne Eddins, Reports Management Officer, Department of Housing and Urban Development, 451 7th Street, SW, L'Enfant Building, Room 8202, Washington, DC 20410.

FOR FURTHER INFORMATION CONTACT: Michael McCullough, Director, Office of Multifamily Development, U.S. Department of Housing and Urban Development, 451 7th Street, SW, Washington, DC 20410, telephone number (202) 708-3000 (this is not a toll-free number), for copies of the proposed forms and other available information.

SUPPLEMENTARY INFORMATION: The Department is submitting the proposed information collection to OMB for review, as required by the Paperwork Reduction Act of 1955 (44 U.S.C. Chapter 35, as amended).

This notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Application for Multifamily Housing Project.

OMB Control Number, if applicable: 2502-0029.

Description of the need for the information and proposed use: Form HUD-92013 is the basic application form used in all HUD/FHA multifamily insurance programs. HUD-92013 and its related exhibits are needed by the Department to determine project feasibility, and mortgagor/contractor acceptability. The Department is required to analyze specific information including financial data, cost data, drawings, and specifications to determine whether the proposed project meets program requirements for mortgage insurance. Form HUD-92013-NHICF is the basic application used specifically to insured nursing homes, intermediate care facilities, and board and care homes. HUD-92013-NHICF is used to determine project feasibility and mortgagor/contractor acceptability when insuring health care facilities. Form HUD-92013-Supp is used to determine the creditworthiness of principal sponsors and the general contractor, the existence of any federal debt, judgments, or bankruptcy claims. The collection of this information is required to reduce the risk of project defaults and claims against the FHA insurance funds.

Agency form numbers, if applicable: HUD-92013, HUD-92013-NHICF, HUD-92013-Supp.

Estimation of the total numbers of hours needed to prepare the information collection including number of respondents, frequency of response, and hours of response: The estimated number of respondents for form HUD-92013 is 1500, the frequency of responses is 1, the number of burden hours is 68 hours, for a total of 102,000 annual burden hours. The estimated number of respondents for HUD-92013-NHICF is 1,000, the frequency of responses is 1, the number of burden hours is 64, for a total of 64,000 annual burden hours. The estimated number of respondents for HUD-92013-Supp is 3,800, the frequency of responses is 1, the number of burden hours is 0.6, for a total of 2,280 annual burden hours.

Status of the proposed information collection: Reinstatement without change or previously approved collection for which approval has expired.

Authority: The Paperwork Reduction Act of 1995, 44 U.S.C., Chapter 35, as amended.

Dated: February 26, 2001.
Wayne Eddins,
Reports Management Officer, Office of the Chief Information Officer.

[FR Doc. 01-5547 Filed 3-6-01; 8:45 am]

BILLING CODE 4210-27-M